DEPARTMENT OF ENERGY

Federal Energy Regulatory Commission

18 CFR Part 284

(Docket No. RM96-1-020)

Standards for Business Practices of Interstate Natural Gas Pipelines

Issued December 20, 2001.

AGENCY: Federal Energy Regulatory Commission, Energy.

ACTION: Notice of proposed rulemaking.

SUMMARY: The Federal Energy Regulatory Commission is proposing to amend § 284.12 of its regulations governing standards for conducting business practices with interstate natural gas pipelines. The Commission is proposing to incorporate by reference the most recent version of the standards, Version 1.5, promulgated August 18, 2001 by the Gas Industry Standards Board (GISB). Version 1.5 of the GISB standards can be obtained from GISB at 1100 Louisiana, Suite 4925, Houston, TX 77002, 713-356-0060, http://www.gisb.org.

DATES: Comments are due February 1, 2002.

ADDRESSES: Federal Energy Regulatory Commission, 888 First Street, NE., Washington, DC, 20426.

FOR FURTHER INFORMATION CONTACT:

Michael Goldenberg, Office of the General Counsel, Federal Energy Regulatory Commission, 888 First Street, NE., Washington, DC 20426, (202) 208-2294

Marvin Rosenberg, Office of Markets, Tariffs, and Rates, Federal Energy Regulatory Commission, 888 First Street, NE., Washington, DC 20426, (202) 208-1283

Kay Morice, Office of Markets, Tariffs, and Rates, Federal Energy Regulatory Commission, 888 First Street, NE., Washington, DC 20426, (202) 208-0507

SUPPLEMENTARY INFORMATION:

Notice of Proposed Rulemaking

1. The Federal Energy Regulatory Commission (Commission) proposes to amend § 284.12 of its open access regulations governing standards for conducting business practices and electronic communications with interstate natural gas pipelines. The Commission is proposing to adopt the most recent version, Version 1.5, of the consensus industry standards, promulgated by the Gas Industry Standards Board (GISB). The Commission also is proposing to remove § 284.12(a) of its regulations dealing with pipeline Electronic Bulletin Boards (EBBs), since all pipelines are required under Commission regulations to provide all electronic communications and conduct all electronic transactions using the public Internet.¹ The proposed rule is intended to benefit the public by adopting the most recent and up-to-date standards governing electronic communication that includes new shipper options such as title transfer tracking, as well as standards for imbalance netting and trading and uniform procedures for implementation of aspects of Order No. 637.²

¹ 18 CFR 284.12(c)(3)(i)(A) (2001).

² Regulation of Short-Term Natural Gas Transportation Services, Order No. 637, 65 FR 10156 (Feb. 25, 2000), FERC Stats. & Regs. Regulations Preambles [July 1996-December 2000] ¶ 31,091 (Feb. 9, 2000).

2. Background

3. Since 1996, in the Order No. 587 series,³ the Commission has adopted regulations to standardize the business practices and communication methodologies of interstate pipelines in order to create a more integrated and efficient pipeline grid. In this series of orders, the Commission incorporated by reference consensus standards developed by GISB, a private consensus standards developer composed of members from all segments of the natural gas industry. GISB is an accredited standards organization under the auspices of the American National Standards Institute (ANSI).

³ Standards For Business Practices Of Interstate Natural Gas Pipelines, Order No. 587, 61 FR 39053 (Jul. 26, 1996), FERC Stats. & Regs. Regulations Preambles [July 1996-December 2000] ¶ 31,038 (Jul. 17, 1996), Order No. 587-B, 62 FR 5521 (Feb. 6, 1997), FERC Stats. & Regs. Regulations Preambles [July 1996-December 2000] ¶ 31,046 (Jan. 30, 1997), Order No. 587-C, 62 FR 10684 (Mar. 10, 1997), FERC Stats. & Regs. Regulations Preambles [July 1996-December 2000] ¶ 31,050 (Mar. 4, 1997), Order No. 587-G, 63 FR 20072 (Apr. 23, 1998), FERC Stats. & Regs. Regulations Preambles [July 1996-December 2000] ¶ 31,062 (Apr. 16, 1998), Order No. 587-H, 63 FR 39509 (July 23, 1998), FERC Stats. & Regs. Regulations Preambles [July 1996-December 2000] ¶ 31,063 (July 15, 1998); Order No. 587-I, 63 FR 53565 (Oct. 6, 1998), FERC Stats. & Regs. Regulations Preambles [July 1996-December 2000] ¶ 31,067 (Sept. 29, 1998), Order No. 587-K, 64 FR 17276 (Apr. 9, 1999), FERC Stats. & Regs. Regulations Preambles [July 1996-December 2000] ¶ 31,072 (Apr. 2, 1999); Order No. 587-M, 65 FR 77285 (Dec. 11, 2000), FERC Stats. & Regs. Regulations Preambles [July 1996-December 2000] ¶ 31,114 (Dec. 11, 2000).

4. On October 19, 2001, GISB filed with the Commission a report informing the Commission that it had adopted a new version of its standards, Version 1.5. On December 3, 2001, GISB filed with the Commission a report listing errata to the Version 1.5 standards.

5. GISB reports that its newest version contains some of the following highlights: modifications to the data set, data element, and code value tables to support Internet web page standards and the transition of EBBs to the Internet; business practice standards and data sets governing imbalance netting and trading (although standards for electronic data interchange of the imbalance netting and trading are still in process); standards for title transfer tracking (TTT), with a recommendation from the GISB Executive Committee that these standards be implemented no earlier than eight months from publication of these standards on August 18, 2001; and standards to support the implementation of Order No. 637 (additional standards are still being considered at the subcommittee level). GISB also reports that its electronic delivery mechanism standards include modifications related to the surety assessment performed by Sandia National Laboratories on the GISB Electronic Delivery Mechanism (EDM) standards.

6. Discussion

7. The Commission is proposing to adopt Version 1.5 ⁴ of GISB's consensus standards.⁵ Pipelines would be required to implement the standards three months after a final rule is issued.⁶

⁴ The incorporation includes the errata sheets published by GISB.

⁵ Pursuant to the regulations regarding incorporation by reference, copies of Version 1.5 of the standards are available from GISB. 5 U.S.C. 552 (a)(1); 1 CFR 51 (2001).

⁶ GISB standard 1.3.78 provides that implementation of TTT not take place until eight months after publication of the TTT standards in the GISB standards manual (which took place on August 18, 2001), and the Commission proposes to adopt that recommendation.

8. Version 1.5 of the GISB standards provides added flexibility to shippers, standardizes additional business practices, and update and improves the current standards.⁷ The principal changes occur in the areas of title transfer tracking, imbalance netting and trading, and improvement of the standards for conducting business transactions electronically over the Internet. Version 1.5 incorporates a series of standards (Standards 1.3.64 through 1.3.78) providing that natural gas pipelines track title transfers at pooling points. These standards will provide shippers with greater flexibility in structuring business transactions, and will enhance the liquidity of the natural gas market by providing for accurate accounting of gas purchase and sale transactions and integrating such transactions into the pipeline scheduling process. Version 1.5 includes new standards (standards 2.3.36 through 2.3.50) for transmitting statements of allocation and implementing imbalance netting and trading as required by the Commission's regulations.⁸ Version 1.5 also updates and improves the standards by modifying the electronic communication standards to better support Internet web page standards and the transition of EBBs to the Internet and by effectuating changes to accommodate the recommendations of Sandia National Laboratories. Commission adoption of these standards will keep the Commission regulations current.⁹

⁷ In Version 1.5, GISB made the following changes to its standards. It added Principles 1.1.20, 1.1.21 and 2.1.5; Definitions 1.2.13 through 1.2.19, 2.2.2, 2.2.3, and 4.2.20; Standards 1.3.64 through 1.3.78, 2.3.36 through 2.3.50, 3.3.26, 4.3.86, 4.3.87, and 5.3.43; and Data Sets 2.4.7 through 2.4.16. It revised Standards 1.3.2, 1.3.54, 1.3.61, 1.3.63, 2.3.30, 2.3.32, 2.3.34, 4.3.16, 4.3.23, 4.3.35, 5.3.2, 5.3.22, 5.3.24, 5.3.31, 5.3.32, and 5.3.33, and Data Sets 1.4.1 through 1.4.7, 2.4.1, 2.4.3 through 2.4.6, 3.4.1, 3.4.2, 3.4.4, 5.4.1 through 5.4.10, 5.4.12, 5.4.13, and 5.4.16 through 5.4.19. It deleted Principles 4.1.5 and 4.1.8, and Standard 4.3.77.

⁸ 18 CFR 284.12 (c)(2)(ii) (2001).

⁹ The Commission also is continuing its previous practice by proposing to exclude standards 2.3.29 dealing with operational balancing agreements (OBAs), 2.3.30 dealing with netting and trading of imbalances, and 4.3.4 dealing with retention of electronic data. The Commission has issued its own regulations in these areas (18 CFR 284.12(c)(2)(i) (OBAs), (c)(2)(ii) (netting and trading of imbalances), and (c)(3)(v) (record retention)), so that incorporation of the GISB standards is unnecessary and may cause confusion as to the applicable Commission requirements.

9. GISB approved the standards under its consensus procedures.¹⁰ As the Commission found in Order No. 587, adoption of consensus standards is appropriate because the consensus process helps ensure the reasonableness of the standards by requiring that the standards draw support from a broad spectrum of all segments of the industry. Moreover, since the industry itself has to conduct business under these standards, the Commission's regulations should reflect those standards that have the widest possible support. In § 12(d) of the National Technology Transfer and Advancement Act of 1995 (NTT&AA), Congress affirmatively requires federal agencies to use technical standards developed by voluntary consensus standards organizations, like GISB, as means to carry out policy objectives or activities.¹¹

¹⁰ This process first requires a super-majority vote of 17 out of 25 members of GISB's Executive Committee with support from at least two members from each of the five industry segments—interstate pipelines, local distribution companies, gas producers, end-users, and services (including marketers and computer service providers). For final approval, 67% of GISB's general membership must ratify the standards.

¹¹ Pub. L. No. 104-113, § 12(d), 110 Stat. 775 (1996), 15 U.S.C. 272 note (1997).

10. While comments are requested on all of the GISB standards, the Commission specifically requests comment on whether it should adopt revised standard 5.3.2 dealing with the timeline for capacity release transactions. The revision to standard 5.3.2 in Version 1.5 was made in response to Order No. 637 in which the Commission adopted a regulation requiring pipelines to provide scheduling equality between capacity release transactions and pipeline transportation services.¹² The regulation states:

¹² 18 CFR 284.12 (c)(1)(ii) (2001); Order No. 637, 65 FR at 10191, FERC Stats. & Regs. Regulations Preambles [July 1996-December 2000] ¶ 31,091, at 31,297.

11. Pipelines must permit shippers acquiring released capacity to submit a nomination at the earliest available nomination opportunity after the acquisition of capacity. If the pipeline requires the replacement shipper to enter into a contract, the contract must be issued within one hour after the pipeline has been notified of the release, but the requirement for contracting must not inhibit the ability of the replacement shipper to submit a nomination at the earliest available nomination opportunity.

12. GISB standards adopted by the Commission currently provide for four nomination cycles: a timely nomination at 11:30 a.m. to take effect at 9 a.m. central clock time (CCT) ¹³ the next gas day, an Evening nomination at 6 p.m. CCT to take effect at 9 a.m. CCT the next gas day, an Intra-Day 1 nomination at 10 a.m. CCT to take effect at 5:00 p.m. CCT on the same gas day, and an Intra-Day 2 nomination at 5 p.m. CCT to take effect at 9 p.m. CCT on the same gas day.¹⁴ In implementing the scheduling equality requirement, the Commission held that a replacement shipper under a capacity release transaction must be able to nominate coincident with notification to the pipeline of a pre-arranged capacity release transaction or coincident with the award of capacity subject to the Commission's bidding requirements.¹⁵

¹³ CCT refers to Central Clock Time, which includes an adjustment for day light savings time. See 18 CFR 284.12(b)(1)(i), Nominations Related Standards 1.3.1 (2001). Under the GISB standards, a gas day runs from 9 a.m. central clock time (CCT) on Day 1 to 9 a.m. CCT the next day (Day 2). 18 CFR 284.12(b)(1)(i), Nominations Related Standards 1.3.1 (2001).

¹⁴ 18 CFR 284.12(b)(1)(i) (2001), Nominations Related Standard 1.3.2 (2001).

¹⁵ Colorado Interstate Gas Company, 95 FERC ¶ 61,321, at 62,111-12 (2001), 97 FERC ¶ 61,011 (2001). See, e.g., Kinder Morgan Interstate Gas Transmission, LLC, 97 FERC ¶ 61,062 (2001); MIGC, Inc, 97 FERC ¶ 61,042 (2001); National Fuel Gas Supply Corporation, 96 FERC ¶ 61,182, at 61,804-805 (2001); Paiute Pipeline Company, 96 FERC ¶ 61,167, at 61,748-49 (2001); Transcontinental Gas Pipe Line Corporation, 96 FERC ¶ 61, 352, at 62,323 (2001); Trailblazer Pipeline Company, 97 FERC ¶ 61,056 (2001).

13. With respect to pre-arranged capacity release transactions not subject to bidding, the Commission found that releasing shippers should be able to inform the pipeline of such prearranged deals at any of the four nomination opportunities and the replacement shipper should be able to submit a nomination at the time the pipeline is informed of the release. For example, if the pipeline is informed of a capacity release transaction at the 6 p.m. CCT timely nomination timeline, the replacement shipper should be permitted to submit an evening nomination for the next gas day at 6 p.m.¹⁶

¹⁶ Colorado Interstate Gas Company, 95 FERC ¶ 61,321, at 62,111-12 (2001).

14. With respect to capacity release transactions subject to bidding, the Commission found that shippers should be able to nominate coincident with the award of capacity. For example, under the existing Version 1.4 of the GISB standards, award notification for short-term biddable capacity release transactions is made at 5 p.m.¹⁷ The Commission found that replacement shippers should be permitted to submit a nomination at the 5 p.m. Intra-Day 2 cycle for that capacity award.¹⁸

¹⁷ 18 CFR 284.12(b)(1)(v) (2001), Capacity Release Related Standard 5.3.2 (2001).

¹⁸ Colorado Interstate Gas Company, 95 FERC ¶ 61,321, at 62,111-12 (2001).

15. In Version 1.5, GISB made a number of changes to its timeline for capacity release transactions (standard 5.3.2). It reconfigured its timeline for short-term biddable releases (less than one year) so that posting of bidding will begin at 12 p.m. on a business day with the award of capacity made by 3:00 p.m.¹⁹ The standard then provides that “contract issued within one hour of award posting (with a new contract number, when applicable); nomination possible beginning at the next available nomination cycle for the effective date of the contract. (Central Clock Time).” Thus, under the reconfigured timeline a shipper awarded capacity at 3 p.m. can make a nomination at the next available nomination cycle (the 5 p.m. Intra-Day 2 Nomination cycle). This appears to be the same result obtained under the Commission's implementation of Order No. 637.

¹⁹ Biddable releases of one year or more have a three day bidding period.

16. However, with respect to non-biddable pre-arranged capacity release transactions not subject to bidding, the GISB Version 1.5 standard differs from the implementation process established by the Commission. Under the GISB standard, shippers must notify the pipeline of a pre-arranged capacity release transaction one-hour prior to the nomination deadline. For example, the standard for the Timely Nomination states: “posting of prearranged deals not subject to bid are due by 10:30 A.M. on a Business Day; contract issued within one hour of award posting (with a new contract number, when applicable); nomination possible beginning at the next available nomination cycle for the effective date of the contract. (Central Clock Time).” The requirement for one-hour prior notice is not consistent with the Commission's implementation of Order No. 637 in which the Commission required pipelines to permit notice coincident with the nomination deadline (e.g., 11:30 a.m. notice for an 11:30 a.m. nomination).

17. The Commission requests comment on whether it should adopt the one-hour prior notice requirement in GISB standard 5.3.2. Comments should discuss the benefits or detriments of adopting the one-hour prior notice requirement notwithstanding that pipelines already are required to implement scheduling equality without such prior notice.

18. In addition, the Commission is proposing to eliminate existing § 284.12(a) dealing with Electronic Bulletin Boards (EBBs) to clean up its regulations. In 1998, in Order No. 587-G, the Commission required pipelines to provide all electronic information and to conduct electronic transactions using the public Internet.²⁰ At that time, the Commission retained its regulations governing EBBs to provide for a transition period as pipelines began the process of converting from EBBs to Internet communication. At this time, the transition to Internet communication should be complete and continuation of regulations regarding EBB communication, therefore, no longer appears necessary.²¹

²⁰ 18 CFR 284.12(c)(3)(i)(A) (2001).

²¹ Current §§ 284.12(c)(3)(ii) and (v) contain similar posting requirements for Internet communication as existing § 284.12(a) does for EBBs, so retention of § 284.12(a) would be duplicative and unnecessary.

19. Notice of Use of Voluntary Consensus Standards

20. Office of Management and Budget Circular A-119 (§ 11) (February 10, 1998) provides that Federal Agencies should publish a request for comment in a NOPR when the agency is seeking to issue or revise a regulation containing a standard identifying whether a voluntary consensus standard or a government-unique standard is being proposed. In this NOPR, the Commission is proposing to incorporate by reference Version 1.5 (August 18, 2001) of the voluntary consensus standards developed by GISB.

21. Information Collection Statement

22. The following collections of information contained in this proposed rule have been submitted to the Office of Management and Budget (OMB) for review under Section 3507(d) of the Paperwork Reduction Act of 1995, 44 U.S.C. 3507(d). The Commission solicits comments on the Commission's need for this information, whether the information will have practical utility, the accuracy of the provided burden estimates, ways to enhance the quality, utility, and clarity of the information to be collected, and any suggested methods for minimizing respondents' burden, including the use of automated information techniques. The following burden estimates include the costs for implementing GISB's Version 1.5 standards which incorporate the most recent and up-to-date standards governing electronic communication including new shipper options such as title transfer tracking, as well as standards for imbalance netting and trading and uniform procedures for implementation of aspects of Order No. 637. The burden estimates are primarily related to start-up for implementing the latest version of the standards and will not be on-going costs.

Data collection | Number of respondents | Number of responses per respondent | Hours per response | Total number of hours
FERC-545 | 93 | 1 | 38 | 3,534
FERC-549C | 93 | 1 | 4,526 | 420,918
Total annual Hours for Collection
(Reporting and Recordkeeping, (if appropriate) = 424,452

23. Information Collection Costs: The Commission seeks comments on the costs to comply with these requirements. It has projected the average annualized cost for all respondents to be the following:

| FERC-545 | FERC-549C
Annualized Capital/Startup Costs | $198,857 | $23,684,934
Annualized Costs (Operations & Maintenance) | 0 | 0
Total Annualized Costs | 198,857 | 23,684,934

24. OMB regulations ²² require OMB to approve certain information collection requirements imposed by agency rule. The Commission is submitting notification of this proposed rule to OMB.

²² 5 CFR 1320.11.

Title: FERC-545, Gas Pipeline Rates: Rate Change (Non-Formal); FERC-549C, Standards for Business Practices of Interstate Natural Gas Pipelines.

Action: Proposed collections.

OMB Control No.: 1902-0154, 1902-0174.

Respondents: Business or other for profit, (Interstate natural gas pipelines (Not applicable to small business.))

Frequency of Responses: One-time implementation (business procedures, capital/start-up).

25. Necessity of Information: This proposed rule, if implemented, would upgrade the Commission's current business practice and communication standards to the latest edition approved by GISB (Version 1.5). These standards include new shipper options such as title transfer tracking, as well as standards for imbalance netting and trading and uniform procedures for implementation of aspects of Order No. 637. The implementation of these standards are necessary to increase the efficiency of the pipeline grid.

26. The information collection requirements of this proposed rule will be reported directly to the industry users. The implementation of these data requirements will help the Commission carry out its responsibilities under the Natural Gas Act to monitor activities of the natural gas industry to ensure its competitiveness and to assure the improved efficiency of the industry's operations. The Commission's Office of Markets, Tariffs and Rates will use the data in rate proceedings to review rate and tariff changes by natural gas companies for the transportation of gas, for general industry oversight, and to supplement the documentation used during the Commission's audit process.

27. Internal Review: The Commission has reviewed the requirements pertaining to business practices and electronic communication with natural gas interstate pipelines and made a determination that the proposed revisions are necessary to establish a more efficient and integrated pipeline grid. Requiring such information ensures both a common means of communication and common business practices which provide participants engaged in transactions with interstate pipelines with timely information and uniform business procedures across multiple pipelines. These requirements conform to the Commission's plan for efficient information collection, communication, and management within the natural gas industry. The Commission has assured itself, by means of its internal review, that there is specific, objective support for the burden estimates associated with the information requirements.

28. Interested persons may obtain information on the reporting requirements by contacting the following: Federal Energy Regulatory Commission, 888 First Street, NE., Washington, DC 20426, [Attention: Michael Miller, Office of the Chief Information Officer, Phone: (202) 208-1415, fax: (202) 208-2425 email: michael.miller@ferc.fed.us].

29. Comments concerning the collection of information(s) and the associated burden estimate(s), should be sent to the contact listed above and to the Office of Management and Budget, Office of Information and Regulatory Affairs, Washington, D.C. 20503 [Attention: Desk Officer for the Federal Energy Regulatory Commission, phone: (202) 395-7318, fax: (202) 395-7285].

30. Environmental Analysis

31. The Commission is required to prepare an Environmental Assessment or an Environmental Impact Statement for any action that may have a significant adverse effect on the human environment.²³ The Commission has categorically excluded certain actions from these requirements as not having a significant effect on the human environment.²⁴ The actions proposed here fall within categorical exclusions in the Commission's regulations for rules that are clarifying, corrective, or procedural, for information gathering, analysis, and dissemination, and for sales, exchange, and transportation of natural gas that requires no construction of facilities.²⁵ Therefore, an environmental assessment is unnecessary and has not been prepared in this NOPR.

²³ Order No. 486, Regulations Implementing the National Environmental Policy Act, 52 FR 47897 (Dec. 17, 1987), FERC Stats. & Regs. Preambles 1986-1990 ¶ 30,783 (1987).

²⁴ 18 CFR 380.4.

²⁵ See 18 CFR 380.4(a)(2)(ii), 380.4(a)(5), 380.4(a)(27).

32. Regulatory Flexibility Act Certification

33. The Regulatory Flexibility Act of 1980 (RFA) ²⁶ generally requires a description and analysis of final rules that will have significant economic impact on a substantial number of small entities. The regulations proposed here impose requirements only on interstate pipelines, which are not small businesses, and, these requirements are, in fact, designed to benefit all customers, including small businesses. Accordingly, pursuant to § 605(b) of the RFA, the Commission hereby certifies that the regulations proposed herein will not have a significant adverse impact on a substantial number of small entities.

²⁶ 5 U.S.C. 601-612.

34. Comment Procedures

35. The Commission invites interested persons to submit written comments on the matters and issues proposed in this notice to be adopted, including any related matters or alternative proposals that commenters may wish to discuss. Comments are due February 1, 2002. Comments may be filed either in paper format or electronically. Those filing electronically do not need to make a paper filing.

36. For paper filings, the original and 14 copies of such comments should be submitted to the Office of the Secretary, Federal Energy Regulatory Commission, 888 First Street, NE., Washington, DC 20426 and should refer to Docket No. RM96-1-020.

37. Documents filed electronically via the Internet must be prepared in WordPerfect, MS Word, Portable Document Format, or ASCII format. To file the document, access the Commission's Website at www.ferc.gov and click on “Make An E-Filing,” and then follow the instructions for each screen. First time users will have to establish a user name and password. The Commission will send an automatic acknowledgment to the sender's e-mail address upon receipt of comments. User assistance for electronic filing is available at 202-208-0258 or by e-mail to efiling@ferc.fed.us. Comments should not be submitted to the e-mail address.

38. All comments will be placed in the Commission's public files and will be available for inspection in the Commission's Public Reference Room at 888 First Street, N.E., Washington D.C. 20426, during regular business hours. Additionally, all comments may be viewed, printed, or downloaded remotely via the Internet through FERC's Homepage using the RIMS link. User assistance for RIMS is available at 202-208-2222, or by e-mail to rimsmaster@ferc.fed.us.

39. Document Availability

40. In addition to publishing the full text of this document in the Federal Register, the Commission provides all interested persons an opportunity to view and/or print the contents of this document via the Internet through FERC's homepage (http://www.ferc.gov) and in FERC's Public Reference Room during normal business hours (8:30 a.m. to 5 p.m. Eastern time) at 888 First Street, NE., Room 2A, Washington, DC 20426.

41. From FERC's homepage on the Internet, this information is available in both the Commission Issuance Posting System (CIPS) and the Records and Information Management System (RIMS).

42. CIPS provides access to the texts of formal documents issued by the Commission since November 14, 1994.

43. CIPS can be accessed using the CIPS link or the Documents & Filing link. The full text of this document is available on CIPS in ASCII and WordPerfect 8.0 format for viewing, printing, and/or downloading.

44. RIMS contains images of documents submitted to and issued by the Commission after November 16, 1981. Documents from November 1995 to the present can be viewed and printed from FERC's homepage using the RIMS link or the Documents & Filing link. Descriptions of documents back to November 16, 1981, are also available from RIMS-on-the-Web; requests for copies of these and other older documents should be submitted to the Public Reference Room.

45. User assistance is available for RIMS, CIPS, and the Web site during normal business hours from our Help line at (202) 208-2222 (e-mail to WebMaster@ferc.fed.us) or the Public Reference at (202) 208-1371 (e-mail to public.referenceroom@ferc.fed.us).

46. During normal business hours, documents can also be viewed and/or printed in FERC's Public Reference Room, where RIMS, CIPS, and the FERC Web site are available. User assistance is also available.

List of Subjects in 18 CFR Part 284

Continental shelf, Incorporation by reference, Natural gas, Reporting and recordkeeping requirements.

By direction of the Commission.
Linwood A. Watson, Jr.,
Acting Secretary.

In consideration of the foregoing, the Commission proposes to amend part 284, Chapter I, Title 18, Code of Federal Regulations, as follows.

PART 284—CERTAIN SALES AND TRANSPORTATION OF NATURAL GAS UNDER THE NATURAL GAS POLICY ACT OF 1978 AND RELATED AUTHORITIES

1. The authority citation for part 284 continues to read as follows:

Authority: 15 U.S.C. 717-717w, 3301-3432; 42 U.S.C. 7101-7532; 43 U.S.C. 1331-1356.

2. Section 284.12 is amended as follows:

§ 284.12 [Amended]

a. Paragraph (a) is removed and paragraphs (b) and (c) are redesignated as paragraphs (a) and (b), respectively.

b. In newly redesignated paragraphs (a)(1)(i), (ii), (iii), and (v), revise all references to “Version 1.4, August 31, 1999” to read “Version 1.5, August 18, 2001.”

c. In newly redesignated paragraph (a)(1)(iv), revise all references to “Version 1.4, November 15, 1999” to read “Version 1.5, August 18, 2001.”

[FR Doc. 01-32004 Filed 12-31-01; 8:45 am]

BILLING CODE 6717-01-P